DEPARTMENT OF HOMELAND SECURITY

Coast Guard

[Docket No. USCG-2016-1061]

Termination of U.S. Coast Guard Rebroadcast of HYDROLANT and HYDROPAC Information

ACTION: Notice of rebroadcast termination.

SUMMARY: The United States Coast Guard is ceasing the rebroadcast of HYDROLANT and HYDROPAC (defined below) navigational warnings over HF SITOR (defined below). There is no requirement for the Coast Guard to rebroadcast this information, although the Coast Guard has been voluntarily doing so for a number of years, and doing so is duplicative of the National Geospatial-Intelligence Agency's broadcast. The information will continue to be disseminated by the National Geospatial-Intelligence Agency.

DATES: The Coast Guard will cease rebroadcasting HYDROLANT and HYDROPAC navigational warnings on August 30th, 2018.

FOR FURTHER INFORMATION CONTACT: For information about this document, please call or email Derrick Croinex, Chief, Spectrum Management and Telecommunications Policy, U.S. Coast Guard (Commandant CG-672); telephone: 202-475-3551; email: derrick.j.croinex@uscg.mil.

SUPPLEMENTARY INFORMATION: On May 14, 2018, we published a notice in the Federal Register at 83 FR 22276 that the Coast Guard was considering no longer rebroadcasting HYDROLANT and HYDROPAC navigational warnings over HF SITOR (High Frequency Simplex Teletype Over Radio service). HYDROLANT warnings are Navigational Warnings Categorized by their Atlantic Ocean Location. HYDROPAC warnings are Navigational Warnings Categorized by their Pacific Ocean/Pacific Rim Location. Both are products of the National Geospatial-Intelligence Agency. The May notice included relevant background information on these navigational warnings and reasons for terminating rebroadcast. After a full consideration of the matter, including public comment, we have decided to stop rebroadcast. The Coast Guard will cease rebroadcasting HYDROLANT and HYDROPAC navigational warnings in 30 days.

In the notice, we requested feedback from the public on the proposed termination. The comment period closed on July 13, 2018. We received one submission in response to our inquiry. The commenter was concerned that the information contained in the Coast Guard rebroadcast would no longer be available. In response to the comment, we would like to reiterate that the HYDROLANT and HYDROPAC products will still be available via satellite from the National Geospatial-Intelligence Agency as originally intended. The Coast Guard is only terminating the rebroadcast of these products, and only these products, via HF. All other HF Broadcast content will continue to be available.

This notice is issued under authority of 14 U.S.C. 93(a)(16) and in accordance with 5 U.S.C. 552(a).

Dated: July 30, 2018.
Derrick J. Croinex,
Chief, Spectrum Management and Telecommunications Policy.

[FR Doc. 2018-16954 Filed 8-7-18; 8:45 am]

BILLING CODE 9110-04-P